DEPARTMENT OF COMMERCE

Patent and Trademark Office

[Docket No. PTO-C-2010-0053]

Notice of Enforcement Policy Symposium on Combating Counterfeiting in the 21st Century

AGENCY: United States Patent and Trademark Office, Department of Commerce.

ACTION: Notice of public symposium.

SUMMARY: To focus on the United States Government enforcement policy regarding counterfeit goods involving health and safety concerns and the United States Patent and Trademark Office's (USPTO) efforts at home and abroad combating counterfeiting, the USPTO and the National Intellectual Property Rights Coordination Center (IPR Center) are co-hosting an enforcement policy symposium on combating counterfeiting in the 21st century. A three panel program is planned for the symposium addressing counterfeiting through regulatory procedures, criminal procedures, and training/public awareness. There are a limited number of seats allocated for members of the public who wish to attend and observe the symposium. Requests to attend the symposium are required and must be submitted by electronic mail through the Internet to: elizabeth.shaw2@uspto.gov. Requests to attend the symposium should indicate the following information: (1) The name of the person desiring to attend; (2) the person's contact information (telephone number and electronic mail address); and (3) the organization(s) the person represents, if any.

Dates and Times: The symposium will be held on Wednesday, July 14, 2010, from 1 p.m. to 4 p.m. The deadline for receipt of requests to observe the symposium is 5 p.m. on Wednesday, July 7, 2010.

ADDRESSES: The symposium will be held at the USPTO, Madison Auditorium, Concourse Level, 600 Dulany Street, Alexandria, Virginia, 22314.

FOR FURTHER INFORMATION CONTACT: Elizabeth Shaw, Office of External Affairs, by phone 571-272-8494, by facsimile to 571-273-0121, by e-mail at elizabeth.shaw2@uspto.gov or by mail addressed to: Mail Stop OIPPE, United States Patent and Trademark Office, P.O. Box 1450, Alexandria, Virginia 22313-1450, ATTN: Elizabeth Shaw.

SUPPLEMENTARY INFORMATION: The Enforcement Policy Symposium on Combating Counterfeiting in the 21st Century will consist of three panel discussions focused on the challenges and opportunities presented, changes in the intellectual property enforcement landscape, and interagency cooperation. A panel on regulatory authority will address enforcement policy involving counterfeiting and the regulatory response. A second panel on criminal procedure will involve a discussion of enforcement policy involving the investigation and prosecution of counterfeit goods involving health and safety concerns. A third panel on the United States Government's domestic and international training efforts relating to counterfeiting and public awareness is the final panel. Government agencies that provide enforcement training and public awareness programs will be featured.

Should there be time during the symposium, questions from members of the public in attendance may be addressed.

The USPTO plans to make the symposium available via Web cast. Web cast information will be available on the USPTO's Internet Web site, http://www.uspto.gov, before the symposium.

Dated: June 18, 2010.
David J. Kappos,
Under Secretary of Commerce for Intellectual Property and Director of the United States Patent and Trademark Office.

[FR Doc. 2010-15307 Filed 6-23-10; 8:45 am]

BILLING CODE 3510-16-P